DEPARTMENT OF THE INTERIOR

Fish and Wildlife Service

[FWS-R7-R-2011-N003; 70133-1265-0000-S3]

Draft Comprehensive Conservation Plan and Environmental Assessment, Selawik National Wildlife Refuge, Kotzebue, AK

AGENCY: U.S. Fish and Wildlife Service, Interior.

ACTION: Notice to reopen the public comment period for the Revised Comprehensive Conservation Plan and Environmental Assessment for Selawik National Wildlife Refuge.

SUMMARY: The U.S. Fish and Wildlife Service published FR Doc. 2010-26655 in the Federal Register on October 21, 2010, announcing availability of the draft revised Comprehensive Conservation Plan (CCP) and Environmental Assessment (EA) for Selawik National Wildlife Refuge. The document identified a review period ending on January 15, 2011. Due to the holiday rush and delayed postal delivery of some materials for public involvement, we are concerned that many people will not be able to meet our deadline; therefore we are reopening the comment period until March 15, 2011.

DATES: To ensure consideration, please send your written comments by the new deadline of March 15, 2011.

ADDRESSES: You may submit comments or requests for copies of the draft CCP and the EA or more information by any of the following methods. You may request hard copies or a CD-ROM of the document.

Agency Web Site: Download a copy of the document at http://alaska.fws.gov/nwr/planning/plans.htm.

E-mail: selawik_planning@fws.gov; please include “Selawik National Wildlife Refuge draft CCP and EA” in the subject line of the message.

Fax: Attn: Jeffrey Brooks, (907) 786-3965, or Lee Anne Ayres, (907) 442-3124.

U.S. Mail: Jeffrey Brooks, U.S. Fish and Wildlife Service Regional Office, 1011 E. Tudor Road Mailstop 231, Anchorage, AK 99503.

In-Person Viewing or Pickup: Call (907) 786-3357 to make an appointment during regular business hours at the above address; or call (907) 442-3799 to make an appointment during regular business hours at the Selawik Refuge Headquarters in Kotzebue, AK.

FOR FURTHER INFORMATION CONTACT: Jeffrey Brooks, Planning Team Leader, at the above address.

SUPPLEMENTARY INFORMATION: The National Wildlife Refuge System Administration Act of 1966 (16 U.S.C. 668dd-668ee) (Administration Act), as amended by the National Wildlife Refuge System Improvement Act of 1997, and the Alaska National Interest Lands Conservation Act of 1980 (94 Stat. 2371; ANILCA) require us to develop a CCP for each refuge. The purpose for developing a CCP is to provide refuge managers with a 15-year plan for achieving refuge purposes and contributing toward the mission of the National Wildlife Refuge System, consistent with sound principles of fish and wildlife management, conservation, legal mandates, and our policies. The U.S. Fish and Wildlife Service published FR Doc. 2010-26655 in the Federal Register on October 21, 2010, announcing availability of the draft revised Comprehensive Conservation Plan (CCP) and Environmental Assessment (EA) for Selawik National Wildlife Refuge (75 FR 65026). The document identified a review period ending on January 15, 2011. Due to the holiday rush and delayed postal delivery of some materials for public involvement, we are concerned that many people will not be able to meet our original deadline; therefore we announce a reopening of the public comment period with a new deadline of March 15, 2011.

Public Events

We will involve the public through open houses, meetings, written comments, and personal interviews with community members. We will mail documents to our national and local Refuge mailing lists. Public meetings will be held in communities in the Refuge area, including Kotzebue, Noorvik, and Selawik. Dates, times, and locations of each meeting or open house will be announced in advance in local media.

Submitting Comments/Issues for Comment

We particularly seek comments on the following issues:

• Management of use by commercial guides and transporters to maintain big game hunting opportunities while reducing social conflict in the region;

• How to best conduct a traditional access study of use for subsistence purposes on Refuge lands;

• Proactively addressing climate change; and

• Providing more outreach and better communication for the public.

We consider comments substantive if they:

• Question, with reasonable basis, the accuracy of the information in the document;

• Question, with reasonable basis, the adequacy of the environmental assessment;

• Present reasonable alternatives other than those presented in the draft CCP and the EA; and/or

• Provide new or additional information relevant to the assessment.

Next Steps

After this comment period ends, we will analyze the comments and address them in the form of a final CCP and decision document.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: January 19, 2011.
Cynthia Jacobson,
Acting Regional Director, U.S. Fish and Wildlife Service, Anchorage, Alaska.

[FR Doc. 2011-1606 Filed 1-25-11; 8:45 am]

BILLING CODE 4310-55-P